DEPARTMENT OF ENERGY

Federal Energy Regulatory Commission

Combined Notice of Filings #1

Take notice that the Commission received the following electric rate filings:

Docket Numbers: ER20-391-010; ER21-2557-005; ER22-2662-005; ER22-2663-005; ER22-2664-005; ER23-1275-003; ER23-1276-003; ER23-1277-003; ER24-1276-001.

Applicants: Aron Energy Prepay 35 LLC, Aron Energy Prepay 23 LLC, Aron Energy Prepay 22 LLC, Aron Energy Prepay 21 LLC, Aron Energy Prepay 16 LLC, Aron Energy Prepay 15 LLC, Aron Energy Prepay 14 LLC, Aron Energy Prepay 5 LLC, J. Aron & Company LLC.

Description: Notice of Change in Status of J. Aron & Company LLC, et al.

Filed Date: 7/25/24.

Accession Number: 20240725-5112.

Comment Date: 5 p.m. ET 8/15/24.

Docket Numbers: ER24-1929-001.

Applicants: Willowbrook Solar I, LLC.

Description: Tariff Amendment: Response to Deficiency Letter in Docket ER24-1929-000 to be effective 5/24/2024.

Filed Date: 7/25/24.

Accession Number: 20240725-5093.

Comment Date: 5 p.m. ET 8/15/24.

Docket Numbers: ER24-2079-000.

Applicants: Basin Electric Power Cooperative.

Description: Refund Report: Refund Report to be effective N/A.

Filed Date: 7/25/24.

Accession Number: 20240725-5027.

Comment Date: 5 p.m. ET 8/15/24.

Docket Numbers: ER24-2587-000.

Applicants: PJM Interconnection, L.L.C.

Description: § 205(d) Rate Filing: Original WMPA, SA No. 7305; Project Identifier No. AF2-380 to be effective 6/24/2024.

Filed Date: 7/24/24.

Accession Number: 20240724-5123.

Comment Date: 5 p.m. ET 8/14/24.

Docket Numbers: ER24-2588-000.

Applicants: NextEra Energy Seabrook, LLC.

Description: § 205(d) Rate Filing: NextEra Energy Seabrook, LLC 3rd Amendment to A&R EP Agreement with NECEC to be effective 7/3/2024.

Filed Date: 7/25/24.

Accession Number: 20240725-5070.

Comment Date: 5 p.m. ET 8/15/24.

Docket Numbers: ER24-2589-000.

Applicants: Castleton Commodities Energy Services LLC.

Description: Baseline eTariff Filing: Baseline new to be effective 7/26/2024.

Filed Date: 7/25/24.

Accession Number: 20240725-5096.

Comment Date: 5 p.m. ET 8/15/24.

Docket Numbers: ER24-2590-000.

Applicants: Castleton Commodities Energy Trading LLC.

Description: Baseline eTariff Filing: Baseline new to be effective 7/26/2024.

Filed Date: 7/25/24.

Accession Number: 20240725-5097.

Comment Date: 5 p.m. ET 8/15/24.

Docket Numbers: ER24-2591-000.

Applicants: PacifiCorp.

Description: Tariff Amendment: Termination of Powerex LTF PTP Conditional Firm Agreement (SA 1016 and SA 1017) to be effective 9/24/2024.

Filed Date: 7/25/24.

Accession Number: 20240725-5102.

Comment Date: 5 p.m. ET 8/15/24.

Docket Numbers: ER24-2592-000.

Applicants: Midcontinent Independent System Operator, Inc.

Description: § 205(d) Rate Filing: 2024-07-25_SA 4313 NSP-Summit Lake Solar GIA (J1581) to be effective 7/18/2024.

Filed Date: 7/25/24.

Accession Number: 20240725-5113.

Comment Date: 5 p.m. ET 8/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 25, 2024.
Debbie-Anne A. Reese,
Acting Secretary.

[FR Doc. 2024-16859 Filed 7-30-24; 8:45 am]

BILLING CODE 6717-01-P